DEPARTMENT OF AGRICULTURE

Forest Service

Shasta-Trinity National Forest, California; Algoma Vegetation and Road Management Project

AGENCY: Forest Service, USDA.

ACTION: Notice of intent to prepare an environmental impact statement.

SUMMARY: The Shasta-Trinity National Forest proposes to thin stands and remove accumulations of down wood (fuels) on approximately 5,300 acres of National Forest System lands. Trees in the project area would be thinned by removing a portion of the trees from overcrowded forest stands. Trees to be removed will generally be smaller in size than trees that will be retained. In some stands, trees to be removed would be those infected with disease or insects. Young tree seedings would be planted in any openings created in these areas. A roads analysis will be prepared to identify management opportunities (road closures and improvements) for the road system within the proposed project area. The project area is in T40N, R1W & R1E, MDM and T39N, R1W & R1E MDM, about 10 miles east of the town of McCloud, California. The project area is zoned by the Forest Land and Resource Management Plan as Late-Successional Reserve. About 15 percent of the area is zoned as Riparian Reserve (wetlands, areas adjacent to streams and unstable areas).

DATES: Comments concerning the scope of the analysis should be received no later than 30 days after the publication of this notice in the Federal Register. The draft environmental impact statement is expected in May 2008 and the final environmental impact statement is expected in September 2008.

ADDRESSES: Send written comments to District Ranger Michael Hupp, Shasta-McCloud Management Unit, 204 W. Alma St., Mt. Shasta, California 96067. Electronic comments can be sent via e-mail to: comments-pacificsouthwest-shasta-trinity-mtshasta-mccloud@fs.fed.us.

FOR FURTHER INFORMATION CONTACT: Ricardo Velarde, McCloud Ranger Station, P.O. Box 1620, McCloud, California 96057, telephone (530) 964-3770 or via e-mail at rvelarde@fs.fed.us.

SUPPLEMENTARY INFORMATION:

Purpose and Need for Action

The purpose of the proposed action is to protect and enhance conditions of late-successional forest ecosystems, which serve as habitat for late-successional and old-growth related species, including the northern spotted owl.

Fire exclusion over the last 100 years has led to dense forest conditions and excessive ground fuels. The overcrowded conditions have had a negative impact on tree vigor and forest health. Increased competition for available resources, such as water, nutrients and sunlight has made trees more susceptible to drought, disease and insect infestation. A dense understory of trees coupled with an accumulation of ground fuels increases the chances of a wildfire reaching the forest canopy and spreading. These conditions limit and delay the development of early-successional and mid-successional stands towards late-successional forest conditions and place existing late-successional forest habitat at risk.

There is a need to reduce tree density in older tree plantations and natural forest stands where overcrowded conditions exist. Thinning will reduce competition and make additional resources available to remaining trees, resulting in improved tree vigor and greater resistance to drought, disease and insects. Furthermore, the use of variable thinning treatments to promote structural and age variability within stands will accelerate their development towards late-successional forest conditions and, consequently, enhance habitat in the project area.

There is a need to break the current cycle of re-infection in areas heavily infected by black stain root disease. Sanitizing (removing) dead and dying trees will remove the source of infection from affected areas. Replanting with a mix of species will enhance diversity and aid in breaking the disease cycle within the project area protecting both developing and existing late-successional forest habitat.

There is a need to reduce accumulations of ground fuels to levels where flames are not likely to reach the canopy layer in case of wildfire. Fuel treatments will reduce fuel loads and reduce the chances of a wildfire destroying late-successional forest habitat in the project area.

Proposed Action

The proposed action is to thin on approximately 5,300 acres. In all thinning treatments, trees will be thinned to a density that is appropriate for the species, age and site. The smaller trees will generally be removed from the stand leaving the healthier dominant and co-dominant trees at an appropriate stocking level.

(a) On approximately 1,050 acres of 25-40 year old ponderosa pine plantations, trees will be thinned to a variable spacing, generally by removing the smaller trees.

(b) On approximately 2,900 acres of 50-85 year old mixed conifer and ponderosa pine stands, trees will be thinned from below to a density that is appropriate for the species, age and site. The smaller trees will generally be removed from the stand leaving the healthier dominant and co-dominant trees at an appropriate stocking level. Interspersed among some of the treated areas will be unthinned patches of trees and areas of black oak release, intended to provide structural diversity and variability on the landscape. Up to 15% of the resultant area would be left in unthinned patches.

(c) On approximately 1,050 acres of 75 year old ponderosa pine and mixed conifer stands with areas of heavy mortality from root disease, trees will be thinned as described in “b” above. In addition, there will be sanitation treatments in those stands that are heavily infected with root disease, in which dead, dying and infected trees will be removed from the site to break the cycle of re-infection. Resulting understocked areas will be replanted with an appropriate mix of species to increase diversity.

(d) On approximately 300 acres of 50-75 year old ponderosa pine and mixed conifer stands, trees will be thinned using an uneven-aged, single-tree-selection method. The objective is to create stands composed of trees in a wide range of diameter classes to promote greater structural and age variability.

On all proposed treatments, excess trees will be removed as commercial wood products wherever possible. Small-diameter trees will be removed as wood chips while larger trees will be removed as saw logs. All fresh conifer stumps greater than 14 inches will be treated with borax to prevent the spread of annosus root disease. Whole tree removal will be used wherever possible to minimize the accumulation of additional ground fuels. Excess ground fuels will be treated by mastication, removal and utilization, or piling and burning. After harvest prescribed fire may be used in units that are deemed suitable. Treatment will be deferred on approximately 4,100 acres within the project area. These areas are experiencing northern spotted owl nesting/roosting activity or currently have suitable nesting stand structure and composition characteristics.

Hardwoods, particularly black oaks, will be enhanced in select areas. Encroaching conifers will be thinned away from hardwoods that are healthy, well established and likely to benefit from treatment.

Riparian Reserves will be treated in limited areas to improve, maintain or protect late-successional forest habitat conditions. Project related actions within Riparian Reserves will meet the objectives of the Aquatic Conservation Strategy in the Shasta-Trinity National Forest Land and Resource Management Plan.

To meet management objectives, this project may include the construction of approximately 2 miles of temporary short length roads, the reconstruction of approximately 21 miles of road and the closure or decommissioning of approximately 25 miles of road. Decisions involving roads will be based on a roads analysis for the project area. An inter-disciplinary team will evaluate current road conditions and weigh the risks and benefits of any changes to the existing road system.

Lead and Cooperating Agencies

Lead Agency: USDA, Forest Service.

Responsible Official

J. Sharon Heywood, Forest Supervisor, Shasta-Trinity National Forest.

Nature of Decision To be Made

The Forest Supervisor will decide whether to implement the proposed action, take an alternative action that meets the purpose and need or take no action.

Scoping Process

The project is included in the Shasta-Trinity National Forest's quarterly schedule of proposed actions (SOPA). Information on the proposed action will also be posted on the forest Web site, http://www.fs.fed.us/r5/shastatrinity/projects and advertised in both the Redding Record Searchlight and the Mount Shasta Herald. This notice of intent initiates the scoping process, which guides the development of the environmental impact statement. Comments submitted during this scoping process should be in writing and should be specific to the proposed action. The comments should describe as clearly and completely as possible any issues the commenter has with the proposal. The scoping process includes:

(a) Identifying potential issues.

(b) Identifying issues to be analyzed in depth.

(c) Eliminating non-significant issues or those previously covered by a relevant previous environmental analysis.

(d) Exploring additional alternatives.

(e) Identifying potential environmental effects of the proposed actions and alternatives.

Early Notice of Importance of Public Participation in Subsequent Environmental Review: A draft environmental impact statement will be prepared for comment. The comment period on the draft environmental impact statement will be 45 days from the date the Environmental Protection Agency publishes the notice of availability in the Federal Register. The Forest Service believes it is important to give reviewers notice of several court rulings related to public participation in the environmental review process. First, reviewers of draft environmental impact statements must structure their participation in the environmental review of the proposal so that it is meaningful and alerts an agency to the reviewer's position and contentions. (Vermont Yankee Nuclear Power Corp. v. NRDC, 435 U.S. 519, 553 (1978)). Also, environmental objections that could be raised at the draft environmental impact statement stage but are not raised until after completion of the final environmental impact statement may be dismissed by the courts. (City of Angoon v. Hodel, 803 F.2d 1016, 1022 (9th Cir. 1986) and Wisconsin Hereitages, Inc. v. Harris, 490 F. Supp. 1334, 1338 (E.D. Wis. 1980). Because of these court rulings, it is very important that those interested in this proposed action participate by the close of the 45 day comment period. Timely submittal of comments and objections to the Forest Service ensures they can be meaningfully considered and responded to in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

In addressing these points, reviewers may wish to refer to the Council on Environmental Quality Regulations for implementing the procedural provisions of the National Environmental Policy Act at 40 CFR 1503.3.

Comments received, including the names and addresses of those who comment, will be considered part of the public record on this proposal, and will be available for public inspection.

(Authority: 40 CFR 1501.7 and 1508.22; Forest Service Handbook 1909.15, Section 21)

Dated: February 14, 2008.
J. Sharon Heywood,
Forest Supervisor, Shasta-Trinity National Forest.

[FR Doc. 08-800 Filed 2-22-08; 8:45 am]

BILLING CODE 3410-11-M